SECURITIES AND EXCHANGE COMMISSION

Issuer Delisting; Notice of Application of Boston Restaurant Associates, Inc. To Withdraw Its Common Stock, $.01 par value, From Listing and Registration on the Boston Stock Exchange, Inc.; File No. 1-13320

January 28, 2005.

On January 11, 2005, Boston Restaurant Associates, Inc., a Delaware corporation (“Issuer”), filed an application with the Securities and Exchange Commission (“Commission”), pursuant to Section 12(d) of the Securities Exchange Act of 1934 (“Act”) ¹ and Rule 12d2-2(d) thereunder,² to withdraw its common stock, $.01 par value (“Security”), from listing and registration on the Boston Stock Exchange, Inc. (“BSE”).

¹ 15 U.S.C. 78l(d).

² 17 CFR 240.12d2-2(d).

On December 23, 2004, the Board of Directors (“Board”) of the Issuer approved a resolution to withdraw the Issuer's Security from listing and registration on the BSE. The Issuer stated: (1) That on December 20, 2004, the BSE notified the Issuer that the BSE would suspend trading of the Security at the close of business that same day. The suspension was the result of a failure of the Issuer to maintain a minimum of $500,000 of stockholder's equity as required by the BSE. (2) After careful consideration the Issuer decided to request a voluntary delisting of the Security from the BSE. The Issuer stated that the Security currently trades on the OTC Bulletin Board.

The Issuer stated in its application that it has complied with BSE procedures for delisting by complying with all applicable laws in effect in the State of Delaware, the state in which it is incorporated, and by filing the required documents governing the withdrawal of securities from listing and registration on the BSE.

The Issuer's application relates solely to withdrawal of the Security from listing on the BSE and from registration under Section 12(b) of the Act,³ and shall not affect its obligation to be registered under Section 12(g) of the Act.⁴

³ 15 U.S.C. 781(b).

⁴ 15 U.S.C. 781(g).

Any interested person may, on or before February 22, 2005, comment on the facts bearing upon whether the application has been made in accordance with the rules of the BSE, and what terms, if any, should be imposed by the Commission for the protection of investors. All comment letters may be submitted by either of the following methods:

Electronic Comments

• Send an e-mail to rule-comments@sec.gov. Please include the File Number 1-13320 or;

Paper Comments

• Send paper comments in triplicate to Jonathan G. Katz, Secretary, Securities and Exchange Commission, 450 Fifth Street, NW., Washington, DC 20549-0609.

All submissions should refer to File Number 1-13320. This file number should be included on the subject line if e-mail is used. To help us process and review your comments more efficiently, please use only one method. The Commission will post all comments on the Commission's Internet Web site (http://www.sec.gov/rules/delist.shtml). Comments are also available for public inspection and copying in the Commission's Public Reference Room. All comments received will be posted without change; we do not edit personal identifying information from submissions. You should submit only information that you wish to make available publicly.

The Commission, based on the information submitted to it, will issue an order granting the application after the date mentioned above, unless the Commission determines to order a hearing on the matter.

For the Commission, by the Division of Market Regulation, pursuant to delegated authority.⁵
⁵ 17 CFR 200.30-3(a)(1).
Jonathan G. Katz,
Secretary.

[FR Doc. E5-417 Filed 2-2-05; 8:45 am]

BILLING CODE 8010-01-P